DEPARTMENT OF COMMERCE

National Oceanic and Atmospheric Administration

RIN 0648-XD417

North Pacific Fishery Management Council; Public Meeting

AGENCY: National Marine Fisheries Service (NMFS), National Oceanic and Atmospheric Administration (NOAA), Commerce.

ACTION: Notice of a public meeting.

SUMMARY: The North Pacific Fishery Management Council's (Council) Electronic Monitoring (EM) workgroup will meet by teleconference.

DATES: The teleconference will be held on August 13, 2014, from 8:30 a.m. to 12:30 p.m., please call (907) 271-2896.

ADDRESSES: The teleconference will be held at the North Pacific Fishery Management Council, 605 W. 4th Avenue, Suite 306, Anchorage, AK 99501-2252.

FOR FURTHER INFORMATION CONTACT: Diana Evans, Council staff; telephone: (907) 271-2809.

SUPPLEMENTARY INFORMATION: The workgroup will discuss progress with study designs, establishing data protocols, EM research and field studies, and planning for the analysis to implement EM.

The Agenda is subject to change, and the latest version will be posted at http://www.npfmc.org/

Special Accommodations

The meeting is physically accessible to people with disabilities. Requests for sign language interpretation or other auxiliary aids should be directed to Gail Bendixen at (907) 271-2809 at least 7 working days prior to the meeting date.

Dated: July 29, 2014.
Tracey L. Thompson,
Acting Deputy Director, Office of Sustainable Fisheries, National Marine Fisheries Service.

[FR Doc. 2014-18133 Filed 7-31-14; 8:45 am]

BILLING CODE 3510-22-P